DEPARTMENT OF TRANSPORTATION

Surface Transportation Board

[Docket No. MCF 21046]

Professional Transportation, Inc.—Asset Acquisition—CUSA ES, LLC and CUSA CSS, LLC

AGENCY: Surface Transportation Board.

ACTION: Notice of Finance Application.

SUMMARY: Professional Transportation, Inc. (PTI or Applicant), an interstate passenger motor carrier (MC-217444), has filed an application under 49 U.S.C. 14303 to acquire the assets of two interstate motor passenger common carrier subsidiaries of noncarrier Coach America Holdings, Inc.—CUSA ES, LLC (MC-463168) and CUSA CSS, LLC (MC-522544) (collectively, Coach America Subsidiaries). On June 5, 2012, Michael Yusim, an individual, filed a letter in opposition, asserting that the public interest would not be served by allowing the transaction to proceed without certain Department of Labor proceedings first being completed. A copy of this notice will be served on Mr. Yusim. Persons wishing to oppose the application must follow the rules set forth at 49 CFR 1182.5 and 1182.8.

DATES: Comments must be filed by August 13, 2012. Applicant may file a reply to any comments by August 28, 2012.

ADDRESSES: Send an original and 10 copies of any comments referring to Docket No. MCF 21046 to: Surface Transportation Board, 395 E Street SW., Washington, DC 20423-0001. In addition, send one copy of comments to Applicant's representative: Andrew K. Light, Scopelitis, Garvin, Light, Hanson & Feary, P.C., 10 W. Market Street, Suite 1500, Indianapolis, IN 46204.

FOR FURTHER INFORMATION CONTACT: Marc Lerner, (202) 245-0390. Federal Information Relay Service (FIRS) for the hearing impaired: 1-800-877-8339.

SUPPLEMENTARY INFORMATION: The Coach America Subsidiaries are currently involved in proceedings instituted under Chapter 11 of the Bankruptcy Code, having filed a voluntary petition for relief with the U.S. Bankruptcy Court for the District of Delaware on January 3, 2012, and a motion to sell substantially all of their assets and effectively to liquidate on January 13, 2012. According to Applicant, the proposed transaction will be completed pursuant to 11 U.S.C. 105(a), 363 and 365 and Fed. R. Bankr. P. 2002, 6004, 6006, and 9014, and the bankruptcy court's order entered on May 25, 2012, authorizing and approving (1) the sale of substantially all of the assets of debtors CUSA ES, LLC and CUSA CSS, LLC free and clear of liens, claims, and encumbrances, and (2) the assumption and assignment of certain executory contracts and unexpired leases.

As indicated, Michael Yusim has filed a letter in opposition to the application by PTI to acquire the assets of the two Coach America Subsidiaries. The basis for his opposition relates to two cases alleging that his employer, an entity named Midnight Sun Tours, Inc. (Midnight Sun), a wholly owned subsidiary of the Coach America bus companies in bankruptcy, discriminated against drivers who accurately reported their hours on duty. According to Mr. Yusim, the two cases are pending before the Secretary of Labor (Secretary), but have been stayed by the bankruptcy court. Mr. Yusim requests that the Board disallow the sale of any subsidiaries of Coach America until the Secretary is allowed to hear the two cases.

Because we have received a timely comment in opposition to the application, we will not grant tentative authority under 49 CFR 1182.4(b). See 49 CFR 1182.6(a). Instead, we will institute a proceeding to address this matter, as well as to determine the merits of the application pursuant to 49 U.S.C. 14303. Comments and responses are to be submitted as ordered below. See 49 CFR 1182.5 and 1182.6.

Board decisions and notices are available on our Web site at www.stb.dot.gov.

This decision will not significantly affect either the quality of the human environment or the conservation of energy resources.

It is ordered:

1. Comments must be filed by August 13, 2012. Applicant may file a reply to any comments by August 28, 2012.

2. This notice will be effective on its date of service.

3. A copy of this notice will be served on: (1) The U.S. Department of Transportation, Federal Motor Carrier Safety Administration, 1200 New Jersey Avenue SE., Washington, DC 20590; (2) the U.S. Department of Justice, Antitrust Division, 950 Pennsylvania Avenue NW., Washington, DC 20530; (3) the U.S. Department of Transportation, Office of the General Counsel, 1200 New Jersey Avenue SE., Washington, DC 20590; (4) the Federal Trade Commission, Bureau of Competition, Premerger Notification Office, 600 Pennsylvania Avenue NW., Washington, DC 20580; and (5) Michael Yusim, 7499 Eagle Point Drive, Delray Beach, FL 33446.

Decided: June 25, 2012.
By the Board, Chairman Elliott, Vice Chairman Mulvey, and Commissioner Begeman.
Jeffrey Herzig,
Clearance Clerk.

[FR Doc. 2012-16046 Filed 6-28-12; 8:45 am]

BILLING CODE 4915-01-P